DEPARTMENT OF THE INTERIOR

Bureau of Land Management

[CA-310-0777-XG]

Notice of Public Meeting: Northwest California Resource Advisory Council

AGENCY: Bureau of Land Management, Interior.

ACTION: Notice of Public Meeting.

SUMMARY: In accordance with the Federal Land Policy and Management Act of 1976 (FLPMA), and the Federal Advisory Committee Act of 1972 (FACA), the U.S. Department of the Interior, Bureau of Land Management (BLM) Northwest California Resource Advisory Council will meet as indicated below.

DATES: The meeting will be held Thursday and Friday, Nov. 4 and 5, 2004, at the Bureau of Land Management Ukiah Field Office, 2550 North State St., Ukiah, Calif. On Thursday, the council will convene at 10 a.m. and depart immediately for a field tour to the Hopland Experimental Station in Hopland, Calif. On Friday, the meeting begins at 8 a.m. in the Conference Room of the BLM Ukiah Field Office. Time for public comment has been set aside for 1 p.m.

FOR FURTHER INFORMATION CONTACT: Rich Burns, Manager, BLM Ukiah Field Office, (707) 468-4000; or BLM Public Affairs Officer Joseph J. Fontana, (530) 252-5332.

SUPPLEMENTARY INFORMATION: The 12-member council advises the Secretary of the Interior, through the BLM, on a variety of planning and management issues associated with public land management in Northwest California. At this meeting, agenda topics will include discussion of a new Resource Management Plan for the Ukiah Field Office, comments on the draft management plan/environmental impact statement for the California Coastal National Monument, discussion of the BLM recreation program in California, and an overview of T-21 legislation. The RAC members will also hear status reports from the Arcata, Redding and Ukiah field office managers. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: September 20, 2004.
Joseph J. Fontana,
Public Affairs Officer.

[FR Doc. 04-21607 Filed 9-24-04; 8:45 am]

BILLING CODE 4310-40-P